DEPARTMENT OF HOMELAND SECURITY

Coast Guard

[USCG-2002-13482]

Response Boat Replacement Project; Programmatic Environmental Assessment and Finding of No Significant Impact

AGENCY: Coast Guard, DHS

ACTION: Notice of availability.

SUMMARY: The U.S. Coast Guard (USCG) announces the availability of the Final Programmatic Environmental Assessment (PEA) and Finding of No Significant Impact (FONSI) for the USCG Response Boat Replacement Project. The purpose of acquiring standard Response Boats—Small (RB-S) and Response Boats—Medium (RB-M) is to add to or replace these aging and increasingly inefficient vessels with standard, more reliable, and more environmentally sound ones. These boats will be deployed at the 44 Coast Guard Group or Activities units, 186 multi-mission stations, and 24 Marine Safety Offices that currently operate non-standard vessels and/or 41-foot Utility Boats (41-foot UTB).

ADDRESSES: Documents discussed in this notice, including comments, will be available for review or copying at the Docket Management Facility, U.S. Department of Transportation, Room PL-401, 400 Seventh Street, SW., Washington, DC, between the hours 9 a.m. and 5 p.m., Monday through Friday, except Federal holidays. This material may also be viewed on the Internet at Web address: http://dms.dot.gov.

FOR FURTHER INFORMATION CONTACT: If you have questions about the project, or would like a copy of the PEA or FONSI, you may contact Mr. David Wiskochil at (202) 267-0584 or e-mail him at: Dwiskochil@comdt.uscg.mil. For questions on viewing or submitting material to the docket, call Dorothy Beard, Chief, Dockets, Department of Transportation, at 202-366-5149.

SUPPLEMENTARY INFORMATION: We are announcing the availability of the Final Programmatic Environmental Assessment (PEA) and Finding of No Significant Impact (FONSI) for the Coast Guard Response Boat Replacement Project. The purpose of acquiring standard Response Boats—Small (RB-S) and Response Boats—Medium (RB-M) is to add to or replace these aging and increasingly inefficient vessels with standard, more reliable, and more environmentally sound ones. These boats will be deployed at the 44 Coast Guard Group or Activities units, 186 multi-mission stations, and 24 Marine Safety Offices that currently operate non-standard vessels and/or 41-foot Utility Boats (41-foot UTB).

Domestic port safety and security has long been a core USCG mission. In the wake of the terrorist attacks committed on September 11, 2001, however, emerging threats to the U.S. homeland have prompted an increased USCG focus on protecting domestic ports and the U.S. maritime transportation system from terrorist threats.

The PEA is a broad, general view of the environmental impacts that may be anticipated by the purchase and deployment of the RB-Ss and RB-Ms along the coastal United States, including the Great Lakes states, Hawaii, Alaska, Guam, Puerto Rico, and the U.S. Virgin Islands. The PEA cannot foresee all possible site-specific and cumulative environmental impacts as a result of implementation of the proposed action.

Homeporting identifies where a boat would normally be docked. Because this is a programmatic document without specific homeporting decisions for the RB-Ms and RB-Ss, certain site-specific environmental categories that may be impacted by those decisions have not been assessed in this document but will be addressed in follow-on analysis under the National Environmental Policy Act (NEPA) as necessary. As identified in the notice of intent and request for comments we published October 10, 2002 in the Federal Register (67 FR 63189-63191) these categories are: Socioeconomic, environmental justice, land use, cultural resources and geological resources.

We received six comments. Five of those who commented merely thanked us for a copy of the Notice. The sixth, California Coastal Commission, indicated that a Finding of Consistency might be necessary. The Coast Guard agrees that, when homeporting decisions are made, additional environmental analyses, as well as a consistency determination may be necessary. The USCG intends to replace the current 350 non-standard small boats with the new RB-Ss on a one-for-one basis at existing USCG facilities with minor or no changes to infrastructure. Personnel levels are expected to remain the same.

The USCG also intends to replace the 41-foot UTBs with RB-Ms. In some cases, the RB-Ms will replace the 41-foot UTBs on a one-for-one basis. Some facilities may receive additional RB-Ms and supplementary personnel may be required. For Homeland Security considerations, the USCG may add additional RB-Ss and RB-Ms at existing USCG facilities. Actual homeporting of additional RB-Ms or RB-Ss will be addressed in follow-on NEPA documentation as necessary.

As part of the USCG's homeland security mission, some of the 700 RB-Ss will be used as part of the establishment and operation of Maritime Safety and Security Teams (MSSTs). Separate NEPA analyses are being conducted for the MSST program. The USCG is still formulating plans regarding the homeporting and personnel requirements of these boats. As homeporting decisions are made, the USCG will use this PEA as a tiering document, and if necessary, appropriate follow-on NEPA assessments will be completed.

Dated: April 2, 2003.
George Molessa,
Captain, U.S. Coast Guard, Assistant Commandant for Acquisition, Acting.

[FR Doc. 03-8524 Filed 4-7-03; 8:45 am]

BILLING CODE 4910-15-P